DEPARTMENT OF HEALTH AND HUMAN SERVICES

Centers for Disease Control and Prevention

[Program Announcement 04224]

Strengthening HIV Counselor Training in the Republic of Uganda; Amendment

A notice announcing the availability of fiscal year (FY) 2004 funds for a cooperative agreement entitled, “Strengthening HIV Counselor Training in the Republic of Uganda” was published in the Federal Register Thursday, June 24, 2004, Volume 69, Number 121, pages 35373-35377. The notice is amended as follows:

On page 35374, column three, section “II. Award Information,”: Please change the anticipated award date from July 1, 2004, to September 1, 2004.

Dated: July 2, 2004.
Alan A. Kotch,
Acting Director, Procurement and Grants Office, Centers for Disease Control and Prevention.

[FR Doc. 04-15600 Filed 7-8-04; 8:45 am]

BILLING CODE 4163-18-P